DEPARTMENT OF ENERGY

Federal Energy Regulatory Commission

[Docket No. RP01-219-000]

Midwestern Gas Transmission Company; Notice of Cashout Report

February 6, 2001.

Take notice that on January 31, 2001, Midwestern Gas Transmission Company (Midwestern) tendered for filing its annual cashout report for the September 1999 through August 2000 period.

Midwestern states that the cashout report reflects a net cashout gain during this period of $97,700. Midwestern will refund this gain to its firm shippers within forty-five days of the Commission's acceptance of this cashout report.

Any person desiring to be heard or to protest said filing should file a motion to intervene or a protest with the Federal Energy Regulatory Commission, 888 First Street, NE., Washington, DC 20426, in accordance with sections 385.214 or 385.211 of the Commission's Rules and Regulations. All such motions or protests must be filed on or before February 13, 2001. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers
Secretary.

[FR Doc. 01-3431 Filed 2-09-01; 8:45am]

BILLING CODE 6717-01-M